SECURITIES AND EXCHANGE COMMISSION

Sunshine Act Meeting

Notice is hereby given that, pursuant to the provisions of the Government in the Sunshine Act, Public Law 94-409, the Securities and Exchange Commission will hold an Open Meeting on Tuesday, November 15, 2016, at 3:00 p.m., in the Auditorium, Room L-002.

The subject matter of the Open Meeting will be:

• The Commission will consider whether to approve a proposed national market system (“NMS”) plan to create, implement, and maintain a consolidated audit trail, submitted pursuant to Rule 613 of Regulation NMS.

At times, changes in Commission priorities require alterations in the scheduling of meeting items.

For further information and to ascertain what, if any, matters have been added, deleted, or postponed, please contact Brent J. Fields in the Office of the Secretary at (202) 551-5400.

Dated: November 8, 2016.
Brent J. Fields,
Secretary.

[FR Doc. 2016-27378 Filed 11-9-16; 11:15 am]

BILLING CODE 8011-01-P